DEPARTMENT OF THE INTERIOR

National Park Service

[NPS-WASO-NRSS-15890; PPWONRADE2.PMP00EI05.YP0000]

Draft Environmental Impact Statement Non-Federal Oil and Gas Regulations

AGENCY: National Park Service, Interior.

ACTION: Notice of availability.

SUMMARY: Pursuant to the National Environmental Policy Act of 1969, 42 U.S.C. 4332(2)(C), the National Park Service (NPS) announces the availability of the Draft Environmental Impact Statement (DEIS) for the Nonfederal Oil and Gas Regulations (36 CFR part 9, subpart B) Revisions.

DATES: The NPS will accept comments on the DEIS from the public for a period of 60 days following publication by the Environmental Protection Agency (EPA) of the Notice of Availability of the Draft Environmental Impact Statement in the Federal Register. We will also announce the dates, times and location to solicit public comments on the DEIS through the NPS Planning, Environment, and Public Comment (PEPC) Web site at http://parkplanning.nps.gov/DEIS9B and media outlets. A web link to a pre-recorded webinar providing an overview of the project will also be listed.

ADDRESSES: Copies of the DEIS will be available for public review at http://parkplanning.nps.gov/DEIS9B. A limited number of hard copies will be available upon request.

FOR FURTHER INFORMATION CONTACT: David Steensen, Chief, Geologic Resource Division, National Park Service, P.O. Box 25287, Denver, CO 80225; phone 303.969.2014.

SUPPLEMENTARY INFORMATION: The DEIS evaluates the impacts of three alternatives, including the following alternative elements:

• Elimination of two regulatory provisions that exempt 60% of the oil and gas operations in NPS units. All operators in NPS units would be required to comply with the 9B regulations.

• Elimination of the financial assurance (bonding) cap. Financial assurance would be equal to the reasonable estimated cost of site reclamation.

• Improving enforcement authority by incorporating existing NPS penalty provisions. Law enforcement staff would have authority to write citations for noncompliance with the regulations.

• Authorizing compensation to the federal government for new access on federal lands outside the boundary of an operator's mineral right.

• Reformatting the regulations to make it easier to identify an operator's information requirements and operating standards that apply to each type of operation.

If you wish to comment electronically, you may submit your comments online at the PEPC Web site by visiting http://parkplanning.nps.gov/DEIS9B. NPS encourages commenting electronically through PEPC. The deadline for submitting comments online is midnight, Eastern Time, on the last day of the public comment period, which will be 60 days after the EPA's Notice of Availability for this DEIS is published in the Federal Register. You may also submit written comments by mail to: David Steensen, Chief, Geologic Resource Division, National Park Service, P.O. Box 25287, Denver, CO 80225. Comments will not be accepted by fax, email, or in any other way than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

The responsible official for this DEIS is the Associate Director, Natural Resources, Stewardship and Science, 1849 C Street NW., Washington, DC 20240.

Dated: January 15, 2015.
Ray Sauvajot,
Associate Director, Natural Resources, Stewardship and Science, Washington Office, National Park Service.

Editorial Note: This document was received for publication by the Office of the Federal Register on October 20, 2015.

[FR Doc. 2015-26999 Filed 10-22-15; 8:45 am]

BILLING CODE 4312-52-P